DEPARTMENT OF COMMERCE

International Trade Administration

University of Massachusetts Amherst, et al.; Notice of Consolidated Decision on Applications for Duty-Free Entry of Electron Microscopes

This is a decision consolidated pursuant to Section 6(c) of the Educational, Scientific, and Cultural Materials Importation Act of 1966 (Pub. L. 89-651, as amended by Public Law 106-36; 80 Stat. 897; 15 CFR part 301). Related records can be viewed between 8:30 a.m. and 5 p.m. in Room 3720, U.S. Department of Commerce, 14th and Constitution Avenue., NW., Washington, DC.

Docket Number: 10-044. Applicant: University of Massachusetts Amherst, Amherst, MA 01003. Instrument: Electron Microscope. Manufacturer: FEI Company, Czech Republic. Intended Use: See notice at 75 FR 42377, July 21, 2010.

Docket Number: 10-047. Applicant: Appalachian State University, Boone, NC 28608. Instrument: Electron Microscope.

Manufacturer: JEOL, Ltd., Japan. Intended Use: See notice at 75 FR 42377, July 21, 2010.

Docket Number: 10-048. Applicant: The University of Texas at El Paso, El Paso, TX 79968. Instrument: Electron Microscope. Manufacturer: JEOL, Ltd., Japan. Intended Use: See notice at 75 FR 42377, July 21, 2010.

Docket Number: 10-050. Applicant: Stanford University School of Medicine, Stanford, CA 94305-5301. Instrument: Electron Microscope. Manufacturer: JEOL, Ltd., Japan. Intended Use: See notice at 75 FR 42377, July 21, 2010.

Comments: None received. Decision: Approved. No instrument of equivalent scientific value to the foreign instrument, for such purposes as these instruments are intended to be used, was being manufactured in the United States at the time the instruments were ordered. Reasons: Each foreign instrument is an electron microscope and is intended for research or scientific educational uses requiring an electron microscope. We know of no electron microscope, or any other instrument suited to these purposes, which was being manufactured in the United States at the time of order of each instrument.

Dated: August 12, 2010.
Christopher Cassel,
Director, Subsidies Enforcement Office, Import Administration.

[FR Doc. 2010-20616 Filed 8-18-10; 8:45 am]

BILLING CODE 3510-DS-P